OFFICE OF MANAGEMENT AND BUDGET

Office of E-Government and Information Technology: Notice of Draft Agency Implementation Guidance for Homeland Security Presidential Directive 12

AGENCY: Office of Management and Budget, Executive Office of the President.

ACTION: Notice and request for comments.

SUMMARY: The Office of Management and Budget requests comments on the draft department and agency implementation guidance on Homeland Security Presidential Directive 12(HSPD-12). The guidance is posted at http://www.whitehouse.gov/omb/inforeg/infopoltech.html.

DATES: To ensure consideration of comments, comments must be in writing and received by OMB no later than May 9, 2005.

ADDRESSES: Comments on this Notice should be addressed to Jeanette Thornton, Office of E-Government and Information Technology. You are encouraged to submit these comments by e-mail to eauth@omb.eop.gov. You may submit via facsimile to (202) 395-5167. Comments can be mailed to the attention of Ms. Michele Courtney, General Services Administration Office of Identity Policy and Practices Division (MEI), 1800 F Street, NW., Room 2014 Washington, DC 20405.

FOR FURTHER INFORMATION CONTACT: Ms. Jeanette Thornton, Office of Information Technology and E-Government, Office of Management and Budget, Washington, DC 20503. Telephone: (202) 395-3562, e-mail to eauth@omb.eop.gov.

SUPPLEMENTARY INFORMATION: On August 27, 2004 the President signed HSPD-12, Policy for a Common Identification Standard for Federal Employees and Contractors. The Secretary of Commerce was asked to issue, by February 27, 2005, a Government-wide standard for secure and reliable forms of identification to be issued by the Federal Government to its employees and contractors. This standard (Federal Information Processing Standard (FIPS) 201: Personal Identity Verification for Federal Employees and Contractors) was issued on February 25, 2005 and can be found at: http://www.csrc.nist.gov/piv-project/.

The Director of the Office of Management and Budget was asked to ensure agency compliance with this Directive. This agency implementation guidance provides specific instructions to agency heads on how to implement the Directive and the Department of Commerce Standard (FIPS 201). To better inform your comments, first read FIPS 201.

On January 19, 2005 the General Services Administration, in partnership with the Department of Commerce and the Office of Management and Budget, held a public meeting to address the privacy and security concerns as they may affect individuals, including Federal employees and contractors as well as the public at large, in implementation. This meeting informed this implementation guidance.

Karen S. Evans,
Administrator for E-Government and Information Technology.

[FR Doc. 05-6959 Filed 4-7-05; 8:45 am]

BILLING CODE 3110-01-P